DEPARTMENT OF COMMERCE

National Oceanic and Atmospheric Administration

RIN 0648-XC366

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Wednesday, December 19, 2012 at 9:30 a.m.

ADDRESSES: The meeting will be held at the Sheraton Colonial, One Audubon Road, Wakefield, MA 01880; telephone: (781) 245-9300; fax: (781) 245-0842.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will meet to finalize recommendations for Framework Adjustment 48 (FW 48) to the Northeast Multispecies Fishery Management Plan. FW 48 will establish acceptable biological catch and annual catch limits for FY 2013 and beyond, will consider modifying management measures for sector vessels (including measures related to at-sea and dockside monitoring of sector trips), may provide an opportunity for sector vessels to access parts of the year-round closed areas, will consider modifying accountability measures for commercial and recreational vessels, may adopt gear requirements for small-mesh bottom trawl vessels fishing on Georges Bank, and several other issues. The Committee will review the draft framework and may develop recommendations for preferred alternatives for all measures. The Committee may also discuss issues related to monitoring a proposed sector exemption for fishing for redfish. Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: November 21, 2012.
Tracey L. Thompson,
Acting Deputy Director, Office of Sustainable Fisheries, National Marine Fisheries Service.

[FR Doc. 2012-28744 Filed 11-26-12; 8:45 am]

BILLING CODE 3510-22-P